CHEMICAL SAFETY AND HAZARD INVESTIGATION BOARD

Sunshine Act Meeting; Request for Comments on Draft Evaluation of Recommended Practice on Fatigue Risk Management Systems for Personnel in the Refining and Petrochemical Industries

TIME AND DATE: April 24, 2013; 9:30 a.m. EDT.

PLACE: Ronald Reagan Building and International Trade Center, Horizon Room, 1300 Pennsylvania Avenue NW., Washington, DC 20004.

STATUS: Open to the public.

MATTERS TO BE CONSIDERED: The Chemical Safety and Hazard Investigation Board (CSB) will convene a public meeting on Wednesday, April 24, 2013, starting at 9:30 a.m. EDT at the Ronald Reagan Building and International Trade Center, Horizon Room, 1300 Pennsylvania Avenue NW., Washington, DC 20004. At the meeting, CSB will consider and vote on the status of Recommendation No. 2005-04-I-TX-7 issued to the American Petroleum Institute (API) and the United Steelworkers International Union (USW) in March 2007. This recommendation urged API and USW to jointly lead the development of an ANSI consensus standard with guidelines for fatigue prevention. The CSB based this recommendation on its investigation of explosions and fires that occurred at BP's Texas City Refinery on March 23, 2005.

In addition the Board intends to consider status designations for the following recommendations to the U.S. Occupational Safety and Health Administration: 2001-05-I-DE-1 (Process Safety Management coverage of atmospheric storage tanks); 2005-04-I-TX-9 (Process Safety Management requirement for organizational management of change reviews); 2010-07-I-CT-1 (Regulations addressing fuel gas safety). Subject to the call of the chairperson, the Board may consider other recommendations-related items that have been calendared for consideration at a public meeting.

SUPPLEMENTARY INFORMATION: On March 23, 2005, explosions and fires in an isomerization unit (ISOM) at BP's Texas City Refinery caused 15 deaths, 180 injuries, and significant economic losses. The CSB's investigation found that the incident was caused by multiple technical, system, and organizational deficiencies. For detailed information on the incident and the CSB's investigation, please refer to the CSB's investigation report on the CSB's Web site, www.csb.gov.

Among its most important findings, the CSB concluded that the ISOM operators were likely fatigued from working 12-hour shifts, some working as many as 29 consecutive days during the turnaround of the unit prior to startup, and that, as a result, the operators' judgment and problem-solving skills were likely degraded, hindering their ability to determine that a distillation tower in the ISOM unit was overfilling with hydrocarbons and to take prompt corrective steps. Accordingly, the CSB issued Recommendation No. 2005-04-I-TX-7 to API and the USW which reads in pertinent part as follows:

[D]evelop fatigue prevention guidelines for the refining and petrochemical industries that, at a minimum, limit hours and days of work and address shift work.

Both API and USW initially accepted the recommendation. The API, formed an ANSI committee that the USW joined. In August 2009, however, the USW withdrew from the committee in protest of what it perceived to be an imbalance in voting members (management vs. union and other representatives). The API proceeded with the committee's work and issued an ANSI-approved Recommended Practice (RP 755) in April 2010.

After review, the CSB staff found that RP 755 makes a contribution to chemical safety by explicitly stating that “workplace fatigue is a risk to safe operations” and also by suggesting various measures to manage fatigue risks. However, the staff determined that RP 755 does not fully meet the intent of the CSB recommendation in multiple important respects, and therefore has urged the Board to vote designating the status of Recommendation No. 2005-4-I-TX-7 as “Open-Unacceptable Action.”

At the meeting on April 24, 2013, the staff will present its analysis to the Board. Following the staff presentation, the Board will hear comments from the public. Following the conclusion of the public comment period, the Board will consider whether to approve the proposed evaluation and to change the status of Recommendation No. 2005-04-I-TX-7 to “Open-Unacceptable Action” or to some other status in accordance with Board Order 22.

REQUEST FOR COMMENTS: The Board welcomes public comment on the staff evaluation and proposed disposition of Recommendation No. 2005-04-I-TX-7. The detailed draft evaluation will be posted on the CSB Web site by March 11, 2013, and will be available for review and comment until 5 p.m. E.D.T. on April 12, 2013. CSB encourages electronic submission of comments. Comments should be submitted by email to fatiguecomments@csb.gov. Comments may also be submitted by mail to Chemical Safety and Hazard Investigation Board, Attn: Amy McCormick, 2175 K Street, NW., Suite 650, Washington, DC 20037.

Comments may be submitted in the body of the email message or as an attached PDF, MS Word, or plain text ASCII file. Files must be virus-free and unencrypted. Include CSB-13-01 in the subject line of the message. Please ensure that the comments themselves, whether in the subject line, the body of the email or in attached files, include the docket number (CSB-13-01), the agency name, and your full name and address.

All comment and submissions must include the agency name and docket number. All comments received, including any personal information provided, will be made available to the public without modifications or deletions. While the public comments submitted before and during the meeting will be carefully analyzed by CSB staff and the Board, the Board does not assume any obligation to respond to comments individually or during the public meeting. Comments received by the CSB will be posted online in the Open Government section of the CSB Web site, http://www.csb.gov/open.aspx.

To ask any question regarding the submission of comments or to establish times to review these documents at CSB headquarters, please call Amy McCormick, Board Affairs Specialist, at (202) 261-7630.

No factual analyses, conclusions, or findings presented by staff should be considered final. Only after the Board has considered the staff presentations, listened to public comments, and voted to approve a change in status of the recommendation should that status be considered final.

The meeting will be free and open to the public. If you require a translator or interpreter, please notify the individual listed below as the “Contact Person for Further Information,” at least five business days prior to the meeting.

The CSB is an independent Federal agency charged with investigating serious accidents that result in the release of extremely hazardous substances. The agency's Board Members are appointed by the President and confirmed by the Senate. CSB investigations look into all aspects of accidents, including physical causes such as equipment failure as well as inadequacies in regulations, industry standards, and safety management systems.

CONTACT PERSON FOR FURTHER INFORMATION: Hillary J. Cohen, Communications Manager, hillary.cohen@csb.gov or (202) 446-8094. General information about the CSB can be found on the agency Web site at: www.csb.gov.

Dated: March 8, 2013.
Daniel M. Horowitz,
Managing Director.

[FR Doc. 2013-05854 Filed 3-11-13; 8:45 am]

BILLING CODE 6350-01-P